ENVIRONMENTAL PROTECTION AGENCY

[EPA-HQ-OAR-2006-0745; FRL-8247-5]

Agency Information Collection Activities; Submission to OMB for Review and Approval; Comment Request; Reformulated Gasoline Commingling Provisions (Renewal); EPA ICR No. 2228.02, OMB Control No. 2060-0587

AGENCY: Environmental Protection Agency.

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 28, 2006.

ADDRESSES: Submit your comments, referencing Docket ID No. EPA-HQ-OAR-2006-0745, to (1) EPA online using www.regulations.gov (our preferred method), by e-mail to a-and-r-Docket@epa.gov, or by mail to: EPA Docket Center (EPA/DC), Environmental Protection Agency, Air Docket, Environmental Protection Agency; 6102T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Geanetta Heard, Office of Transportation and Air Quality, Transportation and Regional Programs (6406J), U.S. Environmental Protection Agency, 1200 Pennsylvania Ave., NW., Washington, DC 20460; telephone number: (202) 343-9017; fax number: (202) 343-2801; e-mail address: heard.geanetta@epa.gov.

SUPPLEMENTARY INFORMATION: EPA has submitted the following ICR to OMB for review and approval according to the procedures prescribed in 5 CFR 1320.12.

On September 28, 2006 (71 FR 56969), EPA sought comments on this proposed ICR pursuant to 5 CFR 1320.8(d). EPA received no comments. Any additional comments on this ICR should be submitted to EPA and OMB within 30 days of this notice.

EPA has established a public docket for this ICR under Docket ID No. EPA-HQ-OAR-2006-0745, which is available for online viewing at www.regulations.gov, and for in-person viewing at the Air and Radiation Docket and Information Center in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744. The telephone number for the Air Docket is (202) 566-1742.

Use EPA's electronic docket and comment system at www.regulations.gov to submit or view public comments, access the index listing of the contents of the docket, and to access those documents in the docket that are available electronically. Once in the system, select “docket search,” then key in the docket ID number identified above. Please note that EPA's policy is that public comments, whether submitted electronically or on paper, will be made available for public viewing at www.regulations.gov as EPA receives them and without change, unless the comment contains copyrighted material, confidential business information (CBI), or other information for which public disclosure is restricted by statute. For further information about the electronic docket, go to www.regulations.gov.

Title: Reformulated Gasoline Commingling Provisions (Renewal).

ICR numbers: EPA ICR No. 2228.02, OMB Control No. 2060-0587.

ICR Status: This ICR is scheduled to expire on November 30, 2006. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9 and are displayed either by publication in the Federal Register or by other appropriate means, such as on the related collection instrument or form, if applicable. The display of OMB control numbers in certain EPA regulations is consolidated in 40 CFR part 9.

Abstract: With this ICR, we are seeking permission to accept notifications from gasoline retailers and wholesale purchaser-consumers related to commingling of ethanol blended and non-ethanol-blended reformulated gasoline (RFG) under section 1513 of the Energy Policy Act of 2005 (EPAct) and 40 CFR 80.78(a)(8)(ii)(B); and to provide for a compliance option whereby a retailer or wholesale purchaser-consumer may demonstrate compliance via test results under 40 CFR 80.78(a)(8)(iii)(A). These provisions are designed to grant compliance flexibility. An emergency ICR has been put in place and expires on November 30, 2006. We are requesting that the OMB renew this ICR and request that it be effective for three years after approval.

Burden Statement: The annual public reporting and recordkeeping burden for this collection of information is estimated to average 0.25 hours (15 minutes) per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this action are gasoline retailers, wholesale purchaser-consumers, gasoline stations with convenience stores and gasoline stations without convenience stores.

Estimated Number of Respondents: 56,700.

Frequency of Response: Occasional.

Estimated Total Annual Hour Burden: 27,675.

Estimated Total Annual Cost: $1,964,925, includes no capital or O&M costs.

Changes in the Estimates: There is no change in the total estimated burden currently identified in the OMB Inventory of Approved ICR Burdens.

Dated: November 16, 2006.
Oscar Morales,
Director, Collection Strategies Division.

[FR Doc. E6-19878 Filed 11-27-06; 8:45 am]

BILLING CODE 6560-50-P